DEPARTMENT OF EDUCATION

Office of Safe and Drug-Free Schools; Notice of Final Priorities and Application Requirements

AGENCY: Office of Safe and Drug-Free Schools, Department of Education.

SUMMARY: The Assistant Deputy Secretary for Safe and Drug-Free Schools announces two priorities and application requirements under the Emergency Response and Crisis Management Grants program. We may use one or more of these priorities and application requirements for competitions in fiscal year (FY) 2006 and later years. We take this action to focus Federal financial assistance on an identified national need. We intend these priorities and application requirements to support grants to local educational agencies (LEAs) that are at high risk for crisis situations, as well as those that have not yet received funding under this program; and to strengthen the quality of applications under this program in addressing multiple hazards, including infectious diseases.

DATES: Effective Date: These priorities and application requirements are effective June 12, 2006.

FOR FURTHER INFORMATION CONTACT: Tara Hill, U.S. Department of Education, 400 Maryland Avenue, SW., Room 3E340, Washington, DC 20202. Telephone: (202) 708-4850 or via Internet: tara.hill@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The events of September 11, 2001, and more recently, Hurricanes Katrina and Rita, reinforce the need for schools and communities to plan for traditional crises and emergencies, as well as possible terrorist attacks or other catastrophic events. The purpose of this program is to support LEA projects to improve and strengthen emergency response and crisis management plans, at the district and school-building level, addressing the four phases of crisis planning: Prevention/Mitigation, Preparedness, Response, and Recovery.

We published a notice of proposed priorities and application requirements for this program in the Federal Register on March 1, 2006 (71 FR 10482).

Analysis of Comments and Changes

In response to our invitation in the notice of proposed priorities and application requirements, three parties submitted comments on the proposed priorities. An analysis of the comments and of any changes in the priorities since publication of the notice of proposed priorities and application requirements follows. We did not make any changes to the application requirements proposed in the notice of proposed priorities and application requirements.

Generally, we do not address technical and other minor changes and suggested changes the law does not authorize us to make under the applicable statutory authority.

Comment: One commenter recommended that we revise the competitive preference priorities to include educational service agencies (ESAs) that have previously received funding, provided the new grant application is on behalf of previously unfunded LEAs. The commenter suggested that since ESAs do not directly benefit from the grant, they should not be excluded from the competitive preference priorities if applying on behalf of LEAs that have not previously received funding under this program.

Discussion: We agree that the competitive preference priorities should be revised to include ESAs that have previously received funding under this program provided the ESA is applying on behalf of previously unfunded LEAs. The primary role of ESAs is to provide educational support programs for LEAs, such as staff and curriculum development, purchasing, and other programs. By consolidating programmatic, fiscal, or administrative services within an ESA, LEAs are able to cooperatively share services and costs for programs that may be costly or difficult to administer by a single LEA. Since ESAs often serve an administrative function for several LEAs, they are often the lead applicant in requests for funding.

Change: We have revised the competitive preference priorities to clarify the eligibility of ESAs for a competitive preference under this program if the ESAs are applying on behalf of previously unfunded LEAs.

Comment: Two commenters suggested that the competitive preference priority for LEAs located in Urban Areas Security Initiative (UASI) jurisdictions provides an unfair advantage over applicants that are not located in UASI jurisdictions.

Discussion: We believe that establishing a funding priority for LEAs located within UASI jurisdictions is justified because the UASI effectively identifies the areas that are most likely to be targets of terrorist attacks and other crises and, thus, have the greatest need for emergency plans.

However, we recognize that effective crisis plans are a priority for all LEAs, regardless of their location. Accordingly, Proposed Priority 2 was designed to address the needs of LEAs that are not located within UASI jurisdictions and that have not previously received funding under the ERCM grant program. We believe that this is an equitable approach for addressing the needs of LEAs that are not located in designated high-risk areas and whose crisis planning needs have not previously received support under this program.

Change: None.

Note: This notice does not solicit applications. In any year in which we choose to use one or more of these priorities and application requirements, we invite applications through a notice in the Federal Register.

Priorities

Priority 1—Competitive Preference Priority for LEAs That Have Not Previously Received a Grant Under the ERCM Program and Are Located in an Urban Areas Security Initiative Jurisdiction

Under this priority, we give a competitive preference to applications from local educational agencies (LEAs) that (1) have not yet received a grant under this program and (2) are located in whole or in part within Urban Areas Security Initiative (UASI) jurisdictions, as determined by the U.S. Department of Homeland Security (DHS). An applicant must meet both of these criteria in order to receive the competitive preference. Under a consortium application, all members of the LEA consortium need to meet both criteria to be eligible for the preference. Applications submitted by educational service agencies (ESAs) are eligible under this priority if each LEA to be served by the grant is located within a UASI jurisdiction and has not received funding under this program directly, or as the lead agency or as a partner in a consortium; however the ESA itself may have received a previous grant.

Because DHS’ determination of UASI jurisdictions may change from year to year, applicants under this priority must refer to the most recent list of UASI jurisdictions published by DHS when submitting their applications. In any notice inviting applications using this priority, the Department will provide applicants with information necessary to access the most recent DHS list of UASI jurisdictions.

Priority 2—Competitive Preference Priority for LEAs That Have Not Previously Received a Grant Under the ERCM Program

Priority: Under this priority, we give competitive preference to applications from local educational agencies (LEAs) that have not previously received a grant under this program. Applicants (other than educational service agencies (ESAs)) that have received funding under this program directly, or as the lead agency or as a partner in a consortium application under this program, will not receive competitive preference under this priority. For applications submitted by ESAs, each LEA to be served by the grant must not have received funding under this program directly, or as the lead agency, or as a partner in a consortium application, in order for the ESA to be eligible under this priority; however the ESA itself may have received a previous grant.

Application Requirements

1. Implementation of the National Incident Management System—Applicants must agree to implement their grant in a manner consistent with the implementation of the NIMS in their communities. Applicants must include in their applications an assurance that they have met, or will complete, all current NIMS requirements by the end of the grant period.

Because DHS’ determination of NIMS requirements may change from year to year, applicants must refer to the most recent list of NIMS requirements published by DHS when submitting their applications. In any notice inviting applications, the Department will provide applicants with information necessary to access the most recent DHS list of NIMS requirements.

Note: An LEA's NIMS compliance must be achieved in close coordination with the local government and with recognition of the first responder capabilities held by the LEA and the local government. As LEAs are not traditional response organizations, first responder services will typically be provided to LEAs by local fire and rescue departments, emergency medical service providers, and law enforcement agencies. This traditional relationship must be acknowledged in achieving NIMS compliance in an integrated NIMS compliance plan for the local government and the LEA. LEA participation in the NIMS preparedness program of the local government is essential to ensure that first responder services are delivered to schools in a timely and effective manner. Additional information about NIMS implementation is available at http://www.fema.gov/emergency/nims/index.shtm.

2. Infectious Disease Plan—To be considered for a grant award, applicants must agree to develop a written plan designed to prepare the LEA for a possible infectious disease outbreak, such as pandemic influenza. Plans must address the four phases of crisis planning (Mitigation/Prevention, Preparedness, Response, and Recovery) and include a plan for disease surveillance (systematic collection and analysis of data that lead to action being taken to prevent and control a disease), school closure decision-making, business continuity (processes and procedures established to ensure that essential functions can continue during and after a disaster), and continuation of educational services.

Executive Order 12866

This notice of final priorities and application requirements has been reviewed in accordance with Executive Order 12866. Under the terms of the order, we have assessed the potential costs and benefits of this regulatory action.

The potential costs associated with the notice of final priorities are those resulting from statutory requirements and those we have determined as necessary for administering this program effectively and efficiently.

In assessing the potential costs and benefits—both quantitative and qualitative—of this notice of final priorities and application requirements, we have determined that the benefits of the final priorities and application requirements justify the costs.

We have also determined that this regulatory action does not unduly interfere with State, local, and tribal governments in the exercise of their governmental functions.

We summarized the costs and benefits in the notice of proposed priorities and application requirements.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.184.E-Emergency Response and Crisis Management Grant program.)

Authority: Program Authority: 20 U.S.C. 7131.

Dated: May 8, 2006.
Deborah A. Price,
Assistant Deputy Secretary for Safe and Drug-Free Schools.

[FR Doc. 06-4408 Filed 5-10-06; 8:45 am]

BILLING CODE 4000-01-P